DEPARTMENT OF ENERGY

Federal Energy Regulatory Commission

[Project No. 2216-000]

New York Power Authority; Notice of Public Information Meetings

April 20, 2000.

Citizens, civic organizations, and local governments continue to demonstrate an overwhelming interest in how they can participate effectively in the Federal Energy Regulatory Commission's (Commission) relicensing process for the New York Power Authority's (NYPA) Robert Moses Niagara Project No. 2216. NYPA's current license for this project expires in August 2007. Consequently, Commission staff will continue to hold public information meetings in the project area to familiarize the public with the Commission's hydropower relicensing process. The next two such meetings will be held as indicated below.

While there will be an opportunity for questions and answers about the Commission staff's presentation, questions and discussions on the merits of the Robert Moses Niagara Project are discouraged.

Interested persons are invited to attend either or both sessions scheduled as follows:

Thursday, May 4, 2000, 1 to 3 p.m., Earl W. Brydges Library, 1425 Main Street, Auditorium, Niagara Falls, NY 14301, (716) 286-4894

Thursday, May 4, 2000, 6:30 to 9 p.m., Niagara County Community College, Building E, Room E142, 3111 Saunders Settlement Road, Sanborn, NY 14132, (716) 614-6222

Please direct any questions regarding these meetings to Patti Leppert-Slack, Commission staff, at (202) 219-2767, or e-mail patricia.leppertslack@ferc.fed.us.

David P. Boergers,
Secretary.

[FR Doc. 00-10336 Filed 4-25-00; 8:45 am]

BILLING CODE 6717-01-M